DEPARTMENT OF COMMERCE

Submission For OMB Review; Comment Request

DOC has submitted to the Office of Management and Budget (OMB) for clearance the following proposal for collection of information under the provisions of the Paperwork Reduction Act (44 U.S.C. chapter 35).

AGENCY: U.S. Census Bureau.

Title: Government Finance Forms.

Form Number(s): F-5, F-11, F-12, F-13, F-21, F-22, F-25, F-28, F-29, F-32, F-42.

Agency Approval Number: 0607-0585.

Type of Request: Revision of a currently approved collection.

Burden: 115,076 hours.

Number of Respondents: 47,981.

Avg Hours Per Response: 2 hours and 23 minutes.

Needs and Uses: Title 13, section 161, of the United States Code requires the Secretary of Commerce to conduct a census of governments every fifth year. Section 182 allows the Secretary to conduct annual surveys in other years. The Census Bureau requests OMB clearance of the questionnaires needed to conduct the 2002 Census of Governments, Finance Phase and the 2003 Annual Survey of State and Local Government Finance. There are eleven survey forms used to collect data on government finances. Since there are many different types and sizes of governments, each form is tailored to the unique characteristics of the type and size of government or government agency to be surveyed. In both the census and annual surveys, equivalent data are collected, except for the F-11 and F-12 retirement forms. For these forms, in the census year, an additional organizational and system coverage section is included. There are no other changes to these forms, as currently cleared.

The Census Bureau incorporates the data collected on these forms into its governmental finance program. This program has made possible the dissemination of comprehensive and comparable governmental finance statistics since 1902. The data are released in reports which contain benchmark statistics on public revenue, expenditure, debt, and assets. They are widely used by federal, state, and local legislators, policy-makers, administrators, analysts, economists, and researchers to follow the changing characteristics of the government sector of the economy.

Affected Public: State, local or Tribal government.

Frequency: Annually.

Respondent's Obligation: Voluntary.

Legal Authority: Title 13 U.S.C., sections 161 and 182.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: December 3, 2001.
Madeleine Clayton,
Departmental Paperwork Clearance Officer, Office of the Chief Information Officer.

[FR Doc. 01-30294 Filed 12-5-01; 8:45 am]

BILLING CODE 3510-07-P